DEPARTMENT OF HEALTH AND HUMAN SERVICES

Centers for Medicare & Medicaid Services

[Document Identifier CMS 10098 and CMS-10114]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Extension of a currently approved collection;

Title of Information Collection: 1-800-MEDICARE Beneficiary Satisfaction Survey;

Use: The Centers for Medicare & Medicaid Services will use the survey information for performance evaluation of the contractor. The information gathered will also be used to validate the quality of service delivered, and or direct the contractor to performance improvement;

Form Number: CMS-10098 (OMB#: 0938-0919);

Frequency: Reporting—Weekly, Monthly and Yearly;

Affected Public: Individuals or households;

Number of Respondents: 18,000;

Total Annual Responses: 18,000;

Total Annual Hours: 2,250.

Type of Information Collection Request: Revision of a currently approved collection;

Title of Information Collection: National Provider Identifier (NPI) Application and Update Form and Supporting Regulations in 45 CFR 142.408, 45 CFR 162.406, 45 CFR 162.408;

Use: The National Provider Identifier (NPI) Application and Update Form is used by health care providers to apply for NPIs and furnish updates to the information they supplied on their initial applications. The form is also used to deactivate their NPIs if necessary. The NPI Application/Update form has been revised to further assist in uniquely identifying health care providers and provide additional guidance on how to accurately complete the form. The form captures additional data elements that will assist with unique identification. It also includes more detailed instructions.

Form Number: CMS-10114 (OMB:# 0938-0931);

Frequency: Reporting—On occasion, one-time;

Affected Public: Business or other for-profit, Not-for-profit institutions, and Federal government;

Number of Respondents: 325,608;

Total Annual Responses: 325,608;

Total Annual Hours: 108,560.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on February 20, 2007.

CMS, Office of Strategic Operations and Regulatory Affairs, Division of Regulations Development—B, Attention: William N. Parham, III, Room C4-26-05, 7500 Security Boulevard, Baltimore, Maryland 21244-1850.

Dated: December 18, 2006.
Michelle Shortt,
Director, Regulations Development Group, Office of Strategic Operations and Regulatory Affairs.

[FR Doc. E6-21917 Filed 12-21-06; 8:45 am]

BILLING CODE 4120-01-P